FEDERAL RESERVE SYSTEM

Change in Bank Control Notices; Acquisitions of Shares of Banks or Bank Holding Companies

The notificants listed below have applied under the Change in Bank Control Act (12 U.S.C. 1817(j)) and 225.41 of the Board's Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than October 31, 2000.

A. Federal Reserve Bank of Dallas (W. Arthur Tribble, Vice President) 2200 North Pearl Street, Dallas, Texas 75201-2272:

1. Gene Allen Van Meter, Beaumont, Texas; Barbara Van Meter, Beaumont, Texas; Gene Allen Van Meter, Jr. , Lumberton, Texas; and Gary Stephen Van Meter, Beaumont, Texas all to acquire additional voting shares of Lamar Bancshares, Inc., Beaumont, Texas, and thereby indirectly acquire additional voting shares of Lamar Bank, Beaumont, Texas.

Board of Governors of the Federal Reserve System, October 11, 2000.
Robert deV. Frierson,
Associate Secretary of the Board.

[FR Doc. 00-26542 Filed 10-16-00; 8:45 am]

BILLING CODE 6210-01-P